FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction No. | Acquiring person | Acquired person | Acquired entities
Transactions Granted Early Termination—11/13/2001
20020040 | Groupe Danone | Stonyfield Farm, Inc. | Stonyfield Farm, Inc.
20020085 | Applied Materials, Inc | Schlumberger Limited | Schlumberger Technologies, Inc.
20020088 | Dan L. Duncan | Ultramar Diamond Shamrock Corporation | Diamond-Koch III, L.P. Diamond-Koch L.P.
20020089 | Dan L. Duncan | Koch Industries, Inc. | Diamong-Koch III, L.P. Diamond-Koch, L.P.
Transactions Granted Early Termination—11/14/2001
20020038 | GlobeSpan, Inc | Virata Corporation | Virata Corporation.
20020047 | Kenneth Rainin | Mettler-Toledo International Inc | Mettler-Toledo international Inc.
20020048 | Mettler-Toledo International Inc | Kenneth Rainin | Rainin Instrument, LLC.
Transactions Granted Early Termination—11/15/2001
20020053 | ARAMARK Corporation | The ServiceMaster Company | CMI Group, Inc. Halliwell Engineering Services, L.L.C. Quantum Resource Corporation.
|  |  | ServiceMaster Direct Marketing Corporation.
|  |  | ServiceMaster Management Services Limited Partnership.
|  |  | ServiceMaster Management Services, Inc.
|  |  | ServiceMaster Management Services of Canada, Inc.
Transactions Granted Early Termination—11/19/2001
20020063 | Anglo American | Normandy Mining Limited | Normandy Mining Limited.
20020070 | AT&T Wireless Services, Inc | Telecorp PCS, Inc | Telecorp PCS, Inc.
20020071 | Bally Total Fitness Holding Corporation | Douglas H. Levine | Crunch Fitness International, Inc.
20020074 | Greenwich Street Capital Partners II, L.P | Regal Cinemas, Inc | Regal Cinemas, Inc.
20020082 | Ballard Power Systems Inc | Ford Motor Company | Ford Electric Drive Holdings Company.
20020083 | Enbridge Energy Partners, L.P | Koch Industries, Inc | Koch Midstream Gasmark Company, LP. Koch Midstream Processing Company, L.P. Koch Midstream Services Company, LLC.
20020087 | Weatherford International, Inc | Vivendi Universal, S.A | Johnson Screens, Inc.
20020092 | American Electric Power Company, Inc | Enron Corp | Indian Mesa Power Partners I LP. Indian Mesa Power Partners II LP.
20020096 | Rothmans Inc | Santa Fe Natural Tobacco Company, Inc | Santa Fe Natural Tobacco Company, Inc.
20020098 | Brunswick Corporation | Genmar Holdings, Inc | Hatteras Yachts, Inc.
20020104 | General Electric Company | Madison Dearborn Capital Partners IV. L.P | Telemundo Communications Group, Inc.
20020105 | The Williams Companies, Inc | Duke Energy Corporation | Duke Energy Field Services, LP.
20020106 | Duke Energy Company | The Williams Companies, Inc | NEWCO LLC.
20020113 | Taylor Nelson Sofres, plc | Thomas S. Perakos | RapidChek Reporting Inc. Theatrical Entertainment Services, Inc.
20020118 | Inversion Corporativa I.C., S.A | High Plains Corporation | High Plains Corporation.
20020121 | Amerada Hess Corporation | The Marital Trust under agreement dated January 17, 1991 | Jomarco, Inc.
20020127 | Cinven Luxembourg I S.a.r.l | WCM Beteiligungs-und Grundbesitz-Aktiengesellschaft | Klockner Capital Corporation, Klockner Pentaplast GmbH.
Transactions Granted Early Termination—11/20/2001
20020122 | Cadence Design Systems, Inc | Silicon Perspective Corp | Silicon Perspective Corp.

For Further Information Contact: Sandra M. Peay or Chandra L. Kennedy, Contact Representatives, Federal Trade Commission, Premerger Notification Office, Bureau of Competition, Room 303, Washington, DC 20580, (202) 326-3100.

By Direction of the Commission.
Donald S. Clark,
Secretary.

[FR Doc. 02-1475 Filed 1-18-02; 8:45 am]

BILLING CODE 6750-01-M